DEPARTMENT OF AGRICULTURE

Food and Nutrition Service

Agency Information Collection Activities: Special Supplemental Nutrition Program for Women, Infants, and Children (WIC) Farmers' Market Nutrition Program (FMNP) Program Regulations—Reporting and Record-Keeping Burden

AGENCY: Food and Nutrition Service (FNS), USDA.

ACTION: Notice.

SUMMARY: In accordance with the Paperwork Reduction Act of 1995, this notice invites the general public and other public agencies to comment on this proposed information collection. This collection is a revision of a currently approved information collection for the WIC Farmers' Market Nutrition Program (FMNP) Regulations for the reporting and record-keeping burden associated with the WIC FMNP Program regulations.

DATES: Written comments must be received on or before April 12, 2021.

ADDRESSES: Comments may be sent to: Sara Olson, Chief, Policy Branch, Supplemental Food Programs Division, Food and Nutrition Service, U.S. Department of Agriculture, Braddock Metro Center II, 1320 Braddock Place, Room 328, Alexandria, VA 22314. Comments may also be submitted via fax to the attention of Sara Olson at 703-305-2086 or via email to Sara.Olson@.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Sara Olson at 703-305-2085 or via email to sara.olson@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Special Supplemental Nutrition Program for Women, Infants, and Children (WIC) Farmers' Market Nutrition Program (FMNP) Regulations—Reporting and Record-keeping Burden.

Form Number: FNS-683B (under OMB Control Number 0584-0594) is associated with this collection.

OMB Number: 0584-0447.

Expiration Date: May 31, 2021.

Type of Request: Revision of a currently approved collection.

Abstract: The WIC Farmers' Market Nutrition Program (FMNP) is associated with the Special Supplemental Nutrition Program for Women, Infants, and Children, also known as WIC. The WIC Program provides supplemental foods, health care referrals, and nutrition education at no cost to low-income pregnant, breastfeeding and non-breastfeeding post-partum women, and to infants and children up to 5 years of age, who are found to be at nutritional risk. The purpose of the WIC Farmers' Market Nutrition Program (FMNP) is to provide fresh, nutritious, unprepared, locally grown fruits and vegetables through farmers' markets and roadside stands to WIC participants, and to expand awareness and use of, and sales at, farmers' markets and roadside stands. Currently, FMNP operates through State health departments in 39 States, 6 Indian Tribal Organizations, District of Columbia, Guam, Puerto Rico, and the Virgin Islands.

Section 17(m)(8) of the Child Nutrition Act of 1966 (42 U.S.C. 1786(m)(8)), and the WIC Farmers' Market Nutrition Program (FMNP) regulations at 7 CFR part 248 require that certain program-related information be collected and that full and complete records concerning FMNP operations are maintained. The information reporting and record-keeping burdens are necessary to ensure appropriate and efficient management of the FMNP. These burden activities are covered by this Information Collection Request (ICR) which include requirements that involve the authorization and monitoring of State agencies; the certification of FMNP participants; the nutrition education that is provided to participants; farmer and market authorization, monitoring, and management; and financial and participation data (using WIC Farmers Market Nutrition Program (FMNP) Annual Financial and Program Data Report (FNS 683B), which is approved (both the form and its associated reporting burden) under OMB Control Number: 0584-0594 Food Programs Reporting System (FPRS), Expiration Date: 07/31/2023). Recordkeeping burden associated with this form is not approved under OMB Control Number 0584-0594. State agencies must maintain records in order to support data reported in FPRS, and the recordkeeping burden for such record maintenance is captured in this ICR, OMB Control Number: 0584-0447. State plans are the principal source of information about how each State agency operates its FMNP. Information from participants and local agencies is collected through State-developed forms or Management Information Systems. The information collected is used by the Department of Agriculture/Food and Nutrition Service to manage, plan, evaluate, make decisions and report on FMNP program operations. Along with the State Plans, State agencies also submit the Federal-State Supplemental Nutrition Programs Agreements (FNS-339) whose reporting and recordkeeping burden is associated and approved under OMB Control Number: 0584-0332, Expiration Date: 04/30/2022.

This information collection is requesting a revision in the burden hours due to program changes and adjustments that primarily reflect the inclusion of programmatic requirements that are being included in this ICR for the first time, and expected changes in the number of FMNP participants; FMNP authorized outlets; and WIC FMNP local agencies.

The currently approved burden for this collection is 929,211 hours. FNS estimates the new burden at 1,640,801 burden hours, which is an increase of 711,591. The currently approved total annual responses are 4,968,338; we are requesting 4,908,769, which is a decrease of 59,569 total annual responses. The currently approved reporting burden is 515,260 hours; for this revision, FNS estimates 1,247,271 hours, which is an increase of 732,011 hours. The currently approved recordkeeping burden is 413,950 hours; for this revision, we estimate 393,530 hours, which is a decrease of 20,420 hours. The total approved reporting and record-keeping burden increased by 711,591 hours.

Affected Public: State, Local, and Tribal Government, Individual/Households, and Businesses (both for-profit and non-profit). Respondents include State agencies and local agencies (including Indian Tribal Organizations, District of Columbia, and Territories), participants, and authorized FMNP outlets (farmers, farmers' markets, roadside stands).

Estimated Number of Respondents: The total estimated number of respondents is 1,581,402. This includes: State agencies (49), local agencies (696), Individuals/Households (1,560,475 participants), businesses (298) and authorized FMNP outlets (farmers, farmers' markets, roadside stands) (19,884).

Estimated Number of Responses per Respondent: The total estimated number of responses per respondent for this collection is 3.10.

Estimated Total Annual Responses: The total estimated number of annual responses for this collection is 4,908,769.

Estimated Time per Response: The estimated time per response averages approximately 20 minutes (0.33 hours) for all participants. For the reporting burden, the estimated time of response varies from approximately 3 minutes to 40 hours, while the estimated time of response for the record-keeping burden varies from 15 minutes to 40 hours, depending on the respondent group.

Estimated Total Annual Burden on Respondents: The estimated total annual burden on respondents for this collection is 1,640,801 hours. The reporting and record-keeping burden is 1,247,271 and 393,530 hours, respectively.

See the table below for the estimated total annual burden for each type of respondent.

Estimate of the FMNP Collection of Information Burden Table
Regulatory section | Information collected | Form(s) | Estimated number of respondents | Annual responses per respondent | Total annual responses | Hours per response | Total annual burden hours
REPORTING BURDEN ESTIMATES
Affected Public: STATE & LOCAL AGENCIES (Including Indian Tribal Organizations and U.S. Territories)
248.3(e), 246.5 | Local Agency Applications |  | 695.80 | 0.50 | 347.90 | 2.00 | 695.80
248.4 | State Plan |  | 49.00 | 1.00 | 49.00 | 40.00 | 1,960.00
248.6, 246.7(c) | Certification Data for Participants |  | 49.00 | 31,846.43 | 1,560,475.00 | 0.25 | 390,118.75
248.10(a)(2), (3), (b)(c) | Authorization—Review of Outlet Applications (Farmers, Farmers' Market, Roadside Stand) |  | 49.00 | 202.90 | 9,942.00 | 1.00 | 9,942.00
248.10(a)(4) | Face-to-Face Training Development |  | 49.00 | 1.00 | 49.00 | 8.00 | 392.00
248.10(a)(4) | Face-to-Face Training |  | 49.00 | 15.00 | 735.00 | 2.00 | 1,470.00
248.10(b)(5) | Disqualification of Authorized Outlets |  | 5.00 | 1.00 | 5.00 | 0.08 | 0.42
248.10(d) | Annual Training for Authorized Outlets Development |  | 49.00 | 1.00 | 49.00 | 8.00 | 392.00
248.10(d) | Annual Training for Authorized Outlets |  | 49.00 | 15.00 | 735.00 | 2.00 | 1,470.00
248.10(e)(2), (3); 248.17(c)(1)(i) | Monitoring/Review of Authorized Outlets |  | 49.00 | 40.58 | 1,988.40 | 1.50 | 2,982.60
248.10(e)(4); 248.17(c)(1)(ii) | Monitoring/Review of Local Agencies |  | 49.00 | 10.14 | 497.00 | 2.00 | 994.00
248.10(f) | Coupon Management System |  | 49.00 | 1.00 | 49.00 | 5.00 | 245.00
248.10(h) | Coupon Reconciliation |  | 49.00 | 1.00 | 49.00 | 3.00 | 147.00
248.10(j) | Recipients and Authorized Outlet Complaints |  | 49.00 | 10.20 | 500.00 | 1.00 | 500.00
248.10(k) | Farmer/farmers' Market Sanctions |  | 49.00 | 8.12 | 397.68 | 0.08 | 33.21
248.11(a) | Disclosure of Financial Expenditures |  | 49.00 | 1.00 | 49.00 | 10.00 | 490.00
248.17(b)(2)(ii) | State Agency Corrective Action Plan |  | 7.00 | 1.00 | 7.00 | 10.00 | 70.00
248.17(a) | Establishment of ME System |  | 1.00 | 1.00 | 1.00 | 24.00 | 24.00
248.17(c)(2) | Special Reports |  | 2.00 | 1.00 | 2.00 | 10.00 | 20.00
248.18(b) | Audit Responses |  | 1.00 | 1.00 | 1.00 | 15.00 | 15.00
Subtotal Reporting: State and Local Agencies (Including Indian Tribal Organizations and U.S. Territories |  | 744.80 | 2,115.91 | 1,575,927.98 | 0.26 | 411,961.77
Affected Public: INDIVIDUALS/HOUSEHOLDS (Applicants for Program Benefits)
248.6, 246.6 | Certification Data for Participants |  | 1,560,475.00 | 1.00 | 1,560,475.00 | 0.05 | 78,179.80
Subtotal Reporting: Individuals/Households |  | 1,560,475.00 | 1.00 | 1,560,475.00 | 0.05 | 78,179.798
Affected Public: AUTHORIZED OUTLETS (Farmers/Markets/Roadside Stands)/BUSINESSES
248.3(e), 246.5 | Non-profit businesses Applications |  | 298.20 | 0.50 | 149 | 2.0000 | 298.20
248.10(a)(4) | Face-to-Face Training |  | 1,988.40 | 1.00 | 1,988.40 | 2.00 | 3,976.80
248.10(b)(xi) | Farmer/farmers' market complaints |  | 500.00 | 1.00 | 500.00 | 0.50 | 250.00
248.10(b)(c) | Authorized outlet Agreements |  | 9,942 | 1.00 | 9,942 | 0.0835 | 830.16
248.10(b)(5) | Appeal of Denial |  | 79.54 | 1.00 | 80 | 2.0000 | 159.07
248.10(d) | Annual Training for Authorized Outlets |  | 17,895.60 | 1.00 | 17,896 | 2.0000 | 35,791.20
248.10(e)(1) | Coupon Reimbursement |  | 19,884 | 9.00 | 178,956 | 4.0000 | 715,824.00
Subtotal Reporting: Authorized Outlets |  | 20,182.20 | 10.38 | 209,510.64 | 3.61 | 757,129.43
GRAND SUBTOTAL: REPORTING |  | 1,581,402.00 | 2.12 | 3,345,913.62 | 0.37 | 1,247,271.00
RECORD-KEEPING BURDEN ESTIMATES
Affected Public: STATE & LOCAL AGENCIES (Including Indian Tribal Organizations and U.S. Territories)
248.4(c) | State Plan Record Maintenance |  | 49.00 | 1.00 | 49.00 | 0.17 | 8.18
248.9 | Nutrition Education |  | 49.00 | 31,846.43 | 1,560,475.00 | 0.25 | 390,118.75
248.10(a)(4)(d) | Authorized Outlet Training Content |  | 49.00 | 1.00 | 49.00 | 2.00 | 98.00
248.10(b)(c) | Authorized Outlet Agreements |  | 49.00 | 1.00 | 49.00 | 2.00 | 98.00
248.10(b)(5) | Maintenance of Disqualification and Sanction Records |  | 49.00 | 1.00 | 49.00 | 0.17 | 8.18
248.10(e)(2),(3); 248.17(c)(1)(i) | Monitoring and Review of Authorized Outlets |  | 49.00 | 40.58 | 1,988.40 | 0.50 | 994.20
248.11(c) | Record of Financial Expenditures | FNS-683B | 49.00 | 1.00 | 49.00 | 2.00 | 98.00
248.17(a) | Maintenance of Management Evaluations |  | 49.00 | 1.00 | 49.00 | 2.00 | 98.00
248.16(a) | Fair Hearings |  | 49.00 | 1.00 | 49.00 | 1.00 | 49.00
248.23(a) | Record of Program Operations |  | 49.00 | 1.00 | 49.00 | 40.00 | 1.960.00
GRAND SUBTOTAL: RECORD-KEEPING |  | 49.00 | 31,895.008 | 1,562,855.40 | 0.25 | 393,530.316
GRAND TOTAL: REPORTING AND RECORD-KEEPING |  | 1,581,402.00 | 3.10 | 4,908,769.02 | 0.33 | 1,640,801.32
Note: FNS-683B, OMB Control Number: 0584-0594 Food Programs Reporting System (FPRS), Expiration Date: 07/31/2023.

Cindy Long,
Acting Administrator, Food and Nutrition Service.

[FR Doc. 2021-02829 Filed 2-10-21; 8:45 am]

BILLING CODE 3410-30-P